DEPARTMENT OF COMMERCE

International Trade Administration

Initiation of Antidumping Duty Administrative Review

AGENCY: Import Administration, International Trade Administration, Department of Commerce.

ACTION: Notice of initiation of antidumping duty administrative review.

SUMMARY: The Department of Commerce (the Department) has received requests to conduct an administrative review of the antidumping duty order on Certain Softwood Lumber Products from Canada. This order has a May anniversary date. In accordance with the Department's regulations, we are initiating this administrative review.

EFFECTIVE DATE: July 1, 2003.

FOR FURTHER INFORMATION CONTACT: Holly A. Kuga, Office of AD/CVD Enforcement, Import Administration, International Trade Administration, U.S. Department of Commerce, 14th Street and Constitution Avenue, NW., Washington, DC 20230, telephone: (202) 482-4737.

SUPPLEMENTARY INFORMATION:

Background

The Department has received timely requests, in accordance with 19 CFR 351.213(b)(2003), for an administrative review of the antidumping duty order on Certain Softwood Lumber Products from Canada. This order has a May anniversary date.

Initiation of Review

In accordance with section 19 CFR 351.221(c)(1)(i), we are initiating an administrative review of the following antidumping duty order. We intend to issue the final results of this review not later than May 31, 2004.

| Period to be reviewed
Antidumping Duty Processing
Canada: Certain Softwood Lumber Products, A-122-838 | 05/22/02-04/30/03
100 Mile Wood Products Ltd.
2 by 4 Lumber Sales Ltd.
440 Services Ltd.
5 Star Forest Industries Ltd.
582912 B.C. Ltd. (DBA Paragon Wood Products, Lumby)
A.J. Forest Products Ltd.
A.L. Stuckless & Sons Limited
Abitibi-Consolidated Company of Canada
Abitibi-LP Engineered Wood Inc.
Age Cedar Products
Ainsworth Lumber Co. Ltd.
Alberta Spruce Industries Ltd.
Alliance Forest Product—Couturier Inc.
Allmac Lumber Sales Ltd.
Alpa Lumber Mills Inc.
American Bayridge Corporation
Antrim Cedar Corp.
Apex Forest Products Inc.
Apollo Forest Products Ltd.
Aquila Cedar Products Ltd.
Arbutus Manufacturing Ltd.
Armand Duhamel et fils Inc.
Ashley Colter (1961) Limited
Aspen Planers Ltd.
Atco Lumber Ltd.
Atikokan Forest Products Ltd.
AWL Forest Products
Bakerview Forest Products Inc.
Barrett Lumber Company Limited
Barrette-Chapais Ltee
Bathurst Lumber
Beaubois Coaticook Inc.
Blackville Lumber
Blanchette et Balanchette Inc.
Bloomfield Lumber Limited
Bois Cobodex (1995) Inc.
Bois Daaquam Inc.
Bois de l'Est FB Inc.
Bois d'oeuvre Cedrico Inc.
Bois Neos Inc.
Bois Omega Ltee
Bois Rocam Inc.
Boisaco Inc.
Boscus Canada Inc.
Boucher Brothers Lumber Ltd.
Boucher Forest Products Ltd.
Bowater Canadian Forest Products Incorporated
Bridgeside Higa Forest Industries Ltd.
Brittania Lumber Company Limited
Brouwer Excavating Ltd.
Brunswick Valley Lumber Inc.
Buchanan Forest Products Ltd.
Buchanan Lumber Sales Inc.
Buchanan Northern Hardwoods Inc.
Burrows Lumber Inc.
BW Creative Wood
Byrnexco Inc.
C.E. Harrison & Sons Ltd.
Caledon Log Homes (FEWO)
Caledonia Forest Products Ltd.
Cambie Cedar Products Ltd.
Canadian Forest Products Ltd.
Canadian Lumber Company Ltd.
Cando Contracting Ltd.
Canex International Lumber Sales Ltd.
CanEx Lumber Ltd.
Canfor Corporation
Canwell Distribution Ltd.
Canyon Lumber Company Ltd.
Capital Forest Products Inc.
Cardinal Lumber Manufacturing & Sales Inc.
Carrier Forest Products Ltd.
Carrier Lumber Ltd.
Carson Lake Lumber
Cedarland Forest Products Ltd.
Central Cedar
Centurion Lumber Manufacturing (1983) Ltd.
Chaleur Sawmills
Cheminis Lumber Inc.
Cheslatta Forest Products Ltd.
Chisholm's (Roslin) Ltd.
Choicewood Products Inc.
City Lumber Sales & Services Ltd.
Clair Industrial Development Corp. Ltd. (Waska)
Clareco Industries Ltd.
Claude Forget Inc.
Clearwood Industries Ltd.
Coast Clear Wood Ltd.
Colonia Fence Mfg. Ltd.
Commonwealth Plywood Co. Ltd.
Cooper Creek Cedar Ltd.
Cooperative Forestiere Laterriere
Corneau Lumber Ltd.
Cottle's Island Lumber Co. Ltd.
Coulson Manufacturing Ltd.
Coventry Forest Products Ltd.
Cowichan Lumber Ltd.
Crystal Forest Industries Ltd.
Curley's Cedar Post & Rail
Cushman Lumber Co. Inc.
D.S. McFall Holding Ltd.
Dakeryn Industries Ltd.
Davron Forest Products Ltd.
Delco Forest Products Ltd.
Delta Cedar Products Ltd.
Deniso Lebel Inc.
Devlin Timber Company (1992) Limited
Devon Lumber Co. Ltd.
Doman Forest Products Limited
Doman Industries Limited
Doman Western Lumber Ltd.
Domexport Inc.
Domtar Inc.
Downie Timber Ltd.
Drummond Lumber
Dubreuil Forest Products Limited
Duluth Timber Company
Dunkley Lumber Ltd.
E. Tremblay et fils Ltee
E.R. Probyn Export Ltd.
Eacan Timber Canada Ltd.
Eacan Timber Limited
Eacan Timber USA Ltd.
East Fraser Fiber Co. Ltd.
Eastwood Forest Products Inc.
Edwin Blaikie Lumber Ltd.
Elmira Wood Products Limited
Elmasdale Lumber Company Limited
Ernie Braumburger
Evergreen Empire Mills Incorporated
EW Marketing
Excel Forest Products
F.L. Dodogh Lumber Co. Ltd.
Falcon Lumber Limited
Faulkener Wood Specialities Ltd.
Fawcett Lumber
Federated Co-operative Limited
Finmac Lumber Limited
Fontaine Inc (dba J.A. Fontaine et fils Incorporee)
Fraser Inc.
Fraser Pacific Forest Products Inc.
Fraser Pacific Lumber Company
Fraser Pulp Chips Ltd.
Fraserview Cedar Products Ltd.
Frontier Mills Inc.
Galloway Lumber Co. Ltd.
Georgetown Timber Limited
Georgian Bay Forest Products Ltd.
Gestofor Inc.
Gogama Forest Products
Goldwood Industries Ltd.
Goodfellow Inc.
Gorman Bros. Lumber Ltd.
Great Lakes MS Lumber Ltd.
Great West Timber Ltd.
Green Lake Metis Wood Products Ltd.
Greenwood Forest Products (1983) Ltd.
Groupe Cedrico Inc.
Groupe de Scieries GDS Inc.
H.A. Fawcett & Son Limited
H.J Crabbe & Sons Ltd.
Haida Forest Products Ltd.
Hainesville Sawmill Ltd.
Hansen Forest Products Ltd.
Harry Freeman & Son Ltd.
Hefler Forest Products Ltd.
Hi-Knoll Cedar Inc.
Hilmoe Forest Products Ltd.
Hoeg Bros. Lumber Ltd.
Holdright Lumber Products Ltd.
Hudson Mitchell & Sons Lumber Inc.
Hughes Lumber Specialities Inc.
Hyak Speciality Wood
Industrial Wood Specialities
Industries Maibec Inc.
Industries Perron Inc.
Interior Joinery Ltd.
International Forest Products Limited (Interfor)
Isidore Roy Limited
J.A. Turner & Sons (1987) Limited
J.D. Irving, Limited
J.H. Huscroft Ltd.
J.S. Jones Timber Ltd.
Jackpine Engineered Wood Products Inc.
Jackpine Forest Products Ltd.
Jamestown Lumber Company Limited
Jasco Forest Products Ltd.
Jean Riopel Inc.
Jeffrey Hanson
Jointfor (3207021) Canada, Inc.
Julimar Lumber Co. Limited
Kalesnikoff Lumber Co. Ltd.
Kenora Forest Products Limited
Kent Trusses Ltd.
Kenwood Lumber Ltd.
Kispiox Forest Products
Kruger, Inc.
L & M Wood Products (1985) Ltd.
La Scierie Lachance Ltee
Lacrete Sawmills Ltd.
Lakeburn Lumber Limited
Lakeland Mills Ltd.
Landmark Structural Lumber
Landmark Truss & Lumber Inc.
Langevin Forest Products, Inc.
Langley Timber Company Ltd.
Lawson Lumber Company Ltd.
Lecours Lumber Company
Ledwidge Lumber Co. Ltd.
Leggett & Platt
Leggett Wood
Les Bois d'Oeuvre Beaudoin & Gautheir Inc.
Les Bois Lemelin Inc.
Les Bois S&P Grondin Inc.
Les Chantiers de Chibougamau Ltee
Les Produits Forestiers D.G. Ltee
Les Produits Forestiers Dube Inc.
Les Produits Forestiers F.B.M. Inc.
Les Produits Forestiers Maxibois Inc.
Les Produits Forestiers Miradas Inc.
Les Produits Forestiers Portbec Ltee
Les Scieries du Lac St Jean Inc.
Leslie Forest Products Ltd.
Lignum Ltd.
Linde Bros.ber Ltd.
Lindsay Lumber Ltd.
Liskeard Lumber Ltd.
Littles Lumber Ltd.
Lonestar Lumber Inc.
Long Lake Forest Products Inc.
LP Canada Ltd.
LP Engineered Wood Products Ltd.
Lulumco Inc.
Lyle Forest Products Ltd.
Lytton Lumber Ltd.
M&G Higgins Lumber Ltd.
M.F. Bernard Inc.
M.L. Wilkins & Son Ltd.
Mac Tara Limited
Manitou Forest Products Ltd.
Manning Diversified Forest Products Ltd.
Maple Creek Saw Mills Inc.
Marcel Lauzon Inc.
Marwood Ltd.
Materiaux Blanchette Inc.
Max Meilleur & Fils Ltee
McCorquindale Holdings Ltd.
McKenzie Forest Products, Inc.
McNutt Lumber Company Ltd.
Medicine Lodge Timber Products Ltd.
Mercury Manufacturing Inc.
Meunier Lumber Company Ltd.
Mid America Lumber
Midland Transport Limited
Midway Lumber Mills Ltd.
Mill & Timber Products Ltd.
Millar Western Forest Products Ltd.
Millco Wood Products Ltd.
Mobilier Rustique (Beauce) Inc.
Moen Lumber
Monterra Lumber Mills Limited
Mostowich Lumber Ltd.
Mountain View Specialty Products & Reload Inc.
Murray A. Reeves Forestry Limited
N.F. Douglas Lumber Limited
Nakina Forest Product Limited
Nechako Lumber Co. Ltd.
Newcastle Lumber Co. Inc.
Nexfor Inc.
Nicholson and Cates Limited
Nickel Lake Lumber
Norbord Industries Inc.
North American Forest Products Ltd.
North Enderby Timber Ltd.
North Mitchell Lumber Co. Ltd.
North Shore Timber Ltd.
North Star Pallets
North Star Wholesale Lumber Ltd.
Northchip Ltd.
Northern Sawmills Inc.
Northern Wood
Northland Forest Products
Olav Haavaldsrud Timber Company
Olympic Industries Inc.
Optibois Inc. 692
Oyama Forest Products
P.A. Lumber & Planing Mill
Pacific Lumber Remanufacturing Inc.
Pacific Northern Rail Contractors Corp.
Pacific Western Woodworks Ltd.
Pallan Timber Products (2000) Ltd.
Palliser Lumber Sales Ltd.
Pan West Wood Products Ltd.
Paragon Ventures Ltd. (DBA Paragon Wood Products, Grindrod)
Parallel Wood Products Ltd.
Pastway Planing Limited
Pat Power Forest Products Corp.
Paul Vallee Inc.
Peak Forest Products Ltd.
Peter Thomson & Sons Inc.
Phoenix Forest Products Inc.
Pope & Talbot Inc.
Porcupine Wood Products Ltd.
Port Arthur Lumber & Planing Mill Ltd.
Portbois
Portelance Lumber Caperol Ltd.
Power Wood Corp.
Precibois Inc. 692
Precision Lumber Products Inc.
Preparabois Inc.
Prime Lumber Limited
Pro Lumber Inc.
Produits Forestiers La Tuque Inc.
Produits Forestiers Labrieville
Produits Forestiers Lamco Inc.
Produits Forestiers Petit Paris Inc.
Produits Forestiers Temrex Usine St. Alphone, Inc.
R. Fryer Forest Products Ltd.
Raintree Lumber Specialities Ltd.
Ramco Lumber Ltd.
Redtree Cedar Products Ltd.
Redwood Value Add Products Inc.
Ridgewood Forest Products Ltd.
Rielly Industrial Lumber, Inc.
Riverside Forest Products Ltd.
Rocky Wood Preservers Ltd.
Rojac Cedar Products Inc.
Rojac Enterprises Inc.
Rouck Bros. Sawmill Ltd.
Russell White Lumber Limited
Sauder Industries Limited
Sawn Wood Products
Scierie Adrien Arseneault Ltee
Scierie Beauchesne et Dube Inc.
Scierie Gason Mortin Inc.
Scierie Gauthier Ltee
Scierie La Patrie, Inc.
Scierie Landrienne Inc.
Scierie Lapointe & Roy Ltee
Scierie Laterriere Ltee
Scierie Leduc
Scierie Nord-Sud Inc.
Scierie West Brome Inc.
Scierie Norbois Inc.
Scott Lumber Ltd.
Selkirk Speciality Wood Ltd.
Shawood Lumber Inc.
Sigurdson Bros. Logging Co. Ltd.
Sinclar Enterprises Ltd.
Skana Forest Products Ltd.
Skeena Cellulose Inc.
Slocan Forest Products Ltd.
Societe en Commandite Scieire Opitciwan
Solid Wood Products Inc.
South River Planing Mills Inc.
South-East Forest Products Ltd.
Spray Lake Sawmills (1980) Ltd.
Spruce Forest Products Ltd.
Spruce Products Limited
St. Anthony Lathing Mills Ltd.
St. Jean Lumber (1984) Ltd.
Strachan Forest Products Ltd.
Stuart Lake Lumber Co. Ltd.
Sunbury Cedar Sales Ltd.
SWP Industries Inc.
Sylvanex Lumber Products Inc.
T.P. Downey & Sons Ltd.
Tara Forest Products
Tarpin Lumber Incorporated
Taylor Lumber Company Ltd.
Teeda Corp.
Tembec Inc.
Terminal Forest Products Ltd.
The Pas Lumber Co. Ltd.
TimberWorld Forest Products Inc.
T'loh Forest Products Limited Partnership
Tolko Industries Lrd.
Trans North Timber
Transco Mills Ltd.
Treeline Wood Products Ltd.
Triad Forest Products, Ltd.
Twin Rivers Cedar Products Ltd.
Tyee Timber Products Ltd.
Uniforet Inc.
United Wood Frames Inc.
Universal Reel & Recycling Inc.
Usine Sartigan Inc.
Vancouver Specialty Cedar Products Ltd.
Vanderhoof Specialty Wood Products
Vandermeer Forest Products (Canada) Ltd.
Vanderwell Contractors (1971) Ltd.
Vanport Canada Co.
Vernon Kiln & Millwood Ltd.
Visscher Lumber Inc.
W.C. Edwards Lumber
W.I. Woodtone Industries Inc.
Welco Lumber Corporation
Weldwood of Canada Limited
Wentworth Lumber Ltd.
Wernham Forest Products
West Bay Forest Products & Manufacturing Ltd.
West Can Rail Ltd.
West Chilcotin Forest Products Ltd.
West Fraser Mills Ltd.
West Hastings Lumber Products
Western Commercial Millwork Inc.
Westmark Products Inc.
Weston Forest Corp.
West-Wood Industries Ltd.
Weyerhaeuser Company
White Spruce Forest Products Ltd.
Wilkerson Forest Products Ltd.
Williams Brothers Limited
Winnipeg Forest Products, Inc.
Woodko Enterprises, Ltd.
Woodland Forest Products Ltd.
Woodline Forest Products Ltd.
Woodtone Industries, Inc.
Wynndel Box & Lumber Co. Ltd.
Zavisha Sawmills Ltd.
Zelensky Brothers La Rouge Sawmill

During any administrative review, covering all or part of a period falling between the first and second or third and fourth anniversary of the publication of an antidumping duty order under section 351.211 or a determination under section 351.218(f)(4) to continue an order or suspended investigation (after sunset review), the Secretary, if requested by a domestic interested party within 30 days of the date of publication of the notice of initiation of the review, will determine whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305.

This initiation and this notice are in accordance with section 751(a) of the Tariff Act of 1930, as amended (19 U.S.C. 1675(a)), and 19 CFR 351.221(c)(1)(i).

Dated: June 26, 2003.
Holly A. Kuga,
Acting Deputy Assistant Secretary, Group II for Import Administration.

[FR Doc. 03-16648 Filed 6-30-03; 8:45 am]

BILLING CODE 3510-DS-P